DEPARTMENT OF THE INTERIOR

National Park Service

Notice of Inventory Completion: American Museum of Natural History, New York, NY

AGENCY: National Park Service, Interior.

ACTION: Notice.

Notice is here given in accordance with the Native American Graves Protection and Repatriation Act (NAGPRA), 25 U.S.C. 3003, of the completion of an inventory of human remains and associated funerary objects in the possession of the American Museum of Natural History, New York, NY. The human remains and associated funerary objects were removed from Santa Barbara County, CA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by American Museum of Natural History professional staff in consultation with representatives of the Santa Ynez Band of Chumash Mission Indians of the Santa Ynez Reservation, California.

In 1876, human remains representing two individuals were collected from Carpinteria, Santa Barbara County, CA, by Stephen Bowers. The human remains were purchased from James Terry by the museum in 1891. The museum did not find any information on how or when Mr. Terry acquired the human remains and associated funerary objects from Mr. Bowers. No known individuals were identified. The four associated funerary objects are three copper spindles and one copper rod.

The individual has been identified as Native American based on geographic and historical evidence. The associated funerary objects suggest that the human remains date to the contact period. Historic records identify the Chumash Indians as the inhabitants of the Santa Barbara area. The human remains were collected from Carpinteria, CA, which is the modern city nearly superimposed over the historic coastal Chumash settlement of Misopsno. In 1855, a small plot of land on a creek near the Santa Ynez Mission was given to the remaining Chumash Indians. One hundred and nine members of the tribe settled there, supporting a historical connection between the present-day Santa Ynez Band of Chumash Mission Indians of the Santa Ynez Reservation, California and the archeologically known Coastal Chumash.

In 1882, human remains representing a minimum of one individual were collected from Burton Mound, Santa Barbara County, CA, by Ben Burton. The museum purchased the human remains from Mr. Terry in 1891. The museum did not find any information on how or when Mr. Terry acquired the human remains. No known individual was identified. No associated funerary objects are present.

The individual has been identified as Native American based on geographical and historical information. Based on the occupation dates for the Burton Mound site, the human remains may be late precontact to contact in age. The human remains were collected from the postcontact territory of the Eastern Coastal Chumash. Archeological research indicates continuity in coastal Chumash society from at least the late precontact period and perhaps considerably earlier.

At an unknown date, human remains representing a minimum of one individual were collected from San Miguel Island, Santa Barbara County, CA, by an unknown collector. The human remains were purchased by the museum in 1935 from Edward Oswald. It is unknown how or when Mr. Oswald acquired the human remains. No known individual was identified. The 433 associated funerary objects are shell beads.

The individual has been identified as Native American based on geographic and historical evidence. The associated funerary objects suggest that the human remains date to a period from circa A.D. 1500 through the mid-nineteenth century. San Miguel Island is one of the Channel Islands, which are historically associated with the Chumash people, and archeologists have suggested that there is considerable cultural continuity in this area. The establishment of Spanish missions resulted in the dispersal of the Island Chumash. The 109 Chumash Indians who settled on the small plot of land near the Santa Ynez Mission given to them in 1855, support a historical connection between the present-day Santa Ynez Band of Chumash Mission Indians of the Santa Ynez Reservation, California and the Island Chumash people.

Officials of the American Museum of Natural History have determined that, pursuant to 25 U.S.C. 3001 (9-10), the human remains described above represent the physical remains of four individuals of Native American ancestry. Officials of the American Museum of Natural History also have determined that, pursuant to 25 U.S.C. 3001 (3)(A), the 437 objects described above are reasonably believed to have been placed with or near individual human remains at the time of death or later as part of the death rite or ceremony. Lastly, officials of the American Museum of Natural History have determined that, pursuant to 25 U.S.C. 3001 (2), there is a relationship of shared group identity that can be reasonably traced between the Native American human remains and associated funerary objects and the Santa Ynez Band of Chumash Mission Indians of the Santa Ynez Reservation, California.

Representatives of any other Indian tribe that believes itself to be culturally affiliated with the human remains and associated funerary objects should contact Nell Murphy, Director of Cultural Resources, American Museum of Natural History, Central Park West at 79th Street, New York, NY 10024-5192, telephone (212) 769-5837, before August 7, 2006. Repatriation of the human remains and associated funerary objects to the Santa Ynez Band of Chumash Mission Indians of the Santa Ynez Reservation, California may proceed after that date if no additional claimants come forward.

The American Museum of Natural History is responsible for notifying the Santa Ynez Band of Chumash Mission Indians of the Santa Ynez Reservation, California that this notice has been published.

Dated: May 24, 2006.
C. Timothy McKeown,
Acting Manager, National NAGPRA Program.

[FR Doc. E6-10507 Filed 7-5-06; 8:45 am]

BILLING CODE 4312-50-S